NATIONAL SCIENCE FOUNDATION

Advisory Panel for Neuroscience; Notice of Meeting

In accordance with the Federal Advisory Committee Act (Pub. L. 92-463, as amended), the National Science Foundation announces the following meeting:

Name: Advisory Panel for Neuroscience (1158).

Date/Time: April 19-20, 2001; 8 a.m. to 5 p.m.

Place: Room 680, 4201 Wilson Boulevard, Arlington, VA.

Type of Meeting: Part-Open.

Contact Person: Dr. Soo-Siang Lim, Program Director, Neuronal & Glial Mechanisms; Division of Integrative Biology and Neuroscience, Suite 680, National Science Foundation, 4201 Wilson Blvd., Arlington, VA 22230 Telephone: (703) 292-8423.

Purpose of Meeting: To provide advice and recommendations concerning proposals submitted to NSF for financial support.

Minutes: May be obtained from the contact person listed above.

Agenda: Open Session: April 20, 2001; 5 p.m. to 6 p.m., to discuss goals and assessment procedures. Closed Session: April 19-20, 2001; 8 a.m. to 5 p.m. To review and evaluate Neuronal & Glial Mechanisms proposals as part of the selection process for awards.

Reason for Closing: The proposals being reviewed include information of a proprietary or confidential nature, including technical information, financial data, such as salaries; and personal information concerning individual associated with the proposals. These matters are exempt under 5 U.S.C. 552b(c)(4) and (6) of the Government in the Sunshine Act.

Dated: April 3, 2001.
Susanne Bolton,
Committee Meeting Officer.

[FR Doc. 01-8535 Filed 4-5-01; 8:45 am]

BILLING CODE 7555-01-M